RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for review and approval.

Summary of Proposal(s)

(1) Collection title: Medicare.

(2) Form(s) submitted: AA-6, AA-7, AA-8, RL-311-F.

(3) OMB Number: 3220-0082.

(4) Expriation date of current OMB clearance: 9/30/2003.

(5) Type of request: Revision of a currently approved collection.

(6) Respondents: Individuals or Households, Business or other-for-profit.

(7) Estimated annual number of respondents: 1,040.

(8) Total annual responses: 1,040.

(9) Total annual reporting hours: 165.

(10) Collection description: The Railroad Retirement Board administers the Medicare program for persons covered by the railroad retirement system. The forms in the collection obtain information needed to enroll non-retired employees and survivor applicants in the plan and also obtain information from railroad employers needed to determine if a railroad retirement beneficiary is entitled to a special enrollment period when applying for supplemental medical coverage under Medicare.

FOR FURTHER INFORMATION CONTACT: Copies of the forms and supporting documents can be obtained from Chuck Mierzwa, the agency clearance officer (312-751-3363). Comments regarding the information collection should be addressed to Ronald J. Hodapp, Railroad Retirement Board, 844 North Rush Street, Chicago, Illinois 60611-2092 and to the OMB Desk Officer for the RRB, at the Office of Management and Budget, Room 10230, New Executive Office Building, Washington, DC 20503.

Chuck Mierzwa,
Clearance Officer.

[FR Doc. 02-30432 Filed 11-29-02; 8:45 am]

BILLING CODE 7905-01-M